DEPARTMENT OF COMMERCE

Foreign-Trade Zones Board

[B-2-2016]

Authorization of Production Activity; Foreign-Trade Subzone 249A; GE Generators (Pensacola) L.L.C.; (Wind Turbine Nacelles and Hubs); Pensacola, Florida

On January 8, 2016, GE Generators (Pensacola) L.L.C., operator of Subzone 249A, submitted a notification of proposed production activity to the Foreign-Trade Zones (FTZ) Board for its facility in Pensacola, Florida.

The notification was processed in accordance with the regulations of the FTZ Board (15 CFR part 400), including notice in the Federal Register inviting public comment (81 FR 3781, January 22, 2016). The FTZ Board has determined that no further review of the activity is warranted at this time. The production activity described in the notification is authorized, subject to the FTZ Act and the FTZ Board's regulations, including Section 400.14.

Dated: May 16, 2016.
Andrew McGilvray,
Executive Secretary.

[FR Doc. 2016-12007 Filed 5-20-16; 8:45 am]

BILLING CODE 3510-DS-P